DEPARTMENT OF THE TREASURY

Community Development Financial Institutions Fund; Request for Public Comment Announcement Type: Notice and Request for Public Comment

SUMMARY: The U.S. Department of the Treasury, as part of its continuing effort to reduce paperwork and respondent burden, invites the general public and other Federal agencies to take this opportunity to comment on proposed and/or continuing information collections, as required by the Paperwork Reduction Act (PRA). Currently, the Community Development Financial Institutions Fund (CDFI Fund), U.S. Department of the Treasury, is soliciting comments concerning the Community Development Financial Institutions Program (CDFI Program) and the Native American CDFI Assistance Program (NACA Program) Financial Assistance and Technical Assistance Applications, for the FY 2020-FY 2022 funding rounds (hereafter, the Application or Applications). The Financial Assistance Application includes optional questions that addresses Healthy Food Financing Initiative—Financial Assistance (HFFI-FA), Persistent Poverty Counties—Financial Assistance (PPC-FA) and Disability Funds—Financial Assistance (DF-FA).

The CDFI Fund is required by law to make the Applications publically available for comment prior to submission for a new PRA number.

DATES: Written comments must be received on or before May 13, 2019 to be assured of consideration.

ADDRESSES: Submit your comments via email to Amber Bell, CDFI Program and NACA Program Manager, CDFI Fund, at cdfihelp@cdfi.treas.gov or Service Request in the Award Management Information System (AMIS).

FOR FURTHER INFORMATION CONTACT: Amber Bell, CDFI Program and NACA Program Manager, CDFI Fund, U.S. Department of the Treasury, 1500 Pennsylvania Avenue NW, Washington, DC 20220 or email to cdfihelp@cdfi.treas.gov.

The Applications may be obtained from the CDFI Program page and NACA Program page of the CDFI Fund's website https://www.cdfifund.gov/Lists/CDFI%20News/View.aspx.

SUPPLEMENTARY INFORMATION:

Title: CDFI Program and NACA Program Financial Assistance and Technical Assistance Applications; OMB Number: 1559-0021.

Abstract: The CDFI Program is authorized by the Riegle Community Development Banking and Financial Institutions Act of 1994 (Pub. L. 103-325, 12 U.S.C. 4701 et seq.). Funding for the CDFI Program and the NACA Program is made available by Congress to the CDFI Fund through its annual appropriations. The regulations governing the CDFI Program are found at 12 CFR parts 1805 and 1815 (the Regulations) and set forth evaluation criteria and other program requirements. For a complete understanding of the programs, the CDFI Fund encourages Applicants to review the Regulations, the Notice of Funds Availability (NOFA) for the FY 2018 application round of the CDFI Program (83 Federal Register 8322, February 1, 2018), the NOFA for the FY 2018 application round of the NACA Program (83 Federal Register 8342, February 1, 2018), the Application, and the Uniform Administrative Requirements, Cost Principles, and Audit Requirements for Federal Awards (2 CFR 200) (Uniform Administrative Requirements). Capitalized terms in this Request for Public Comment are defined in the CDFI Program's authorizing statute, the Regulations, the FY 2018 CDFI Program and NACA Program NOFAs, the Application, and the Uniform Administrative Requirements.

Through the CDFI Program and NACA Program's Financial Assistance awards and Technical Assistance grants, the CDFI Fund invests in and builds the capacity of for-profit and nonprofit community based lending organizations known as Community Development Financial Institutions (CDFIs).

CDFI Program and NACA Program award Recipients will be competitively selected after the CDFI Fund's careful review of their Applications. The proposed Financial Assistance Application requires the submission of quantitative and qualitative information about the Applicant's Business Strategy, Products and Services, Market and Competitive Analysis, Management and Staffing, Financial Position, and Growth and Projections. The proposed Technical Assistance Application requires the submission of quantitative and qualitative information about CDFI Certification Qualifications, an Organizational Overview, and Use of Funds. Please refer to the FY 2018 CDFI Program and NACA Program NOFAs for additional guidance on the review and application process for past funding rounds.

This request for public comment seeks to gather information on the CDFI Program and NACA Program Financial Assistance which includes the optional questions for PPC-FA, HFFI-FA and DF-FA and Technical Assistance Applications.

Current Actions: Renewal of existing Information Collection, the retirement of OMB Number: 1559-0048 for Disability Funds-Financial Assistance and OMB Number 1559-0040 for Healthy Food Financing Initiative-Financial Asssitance (HFFI-FA) and the consolidation of the DF-FA and HFFI-FA Application under OMB Number 1559-0021.

Type of Review: Regular Review.

Affected Public: Businesses or other for-profit institutions, non-profit entities, and State, local and Tribal entities participating in CDFI Fund programs.

Estimated Number of Respondents for Financial Assistance: 400.

Estimated Annual Time per Respondent for Financial Assistance Including Optional Questions: 200 hours.

Estimated Total Annual Burden Hours for Financial Assistance: 80,000.

Estimated Number of Respondents for Technical Assistance: 100.

Estimated Annual Time per Respondent for Technical Assistance: 50 hours.

Estimated Total Annual Burden Hours for Technical Assistance: 5,000.

Requests for Comments: Comments submitted in response to this notice will be summarized and/or included in the request for Office of Management and Budget approval. All comments will become a matter of public record and may be published on the CDFI Fund's website at http://www.cdfifund.gov. The CDFI Fund is seeking input on the content of the CDFI Program and NACA Program Financial Assistance and Technical Assistance Applications. The Applications may be obtained on the CDFI Fund's website at https://www.cdfifund.gov/Lists/CDFI%20News/View.aspx. CDFI Program and NACA Program Financial Assistance awards must be used for Financial Products, Financial Services, and/or Development Services for commercial facilities, commercial real estate, small businesses, microenterprises, community facilities, consumer financial products and services, affordable housing, and intermediary lending to nonprofits and CDFIs—so long as those activities allow the Recipient to achieve at least one of the following statutorily required Financial Assistance activities: Expand operations into a new Geographic Area(s); serve a new Targeted Population(s); provide additional or new Financial Products and Services; and/or increase the volume of current Financial Products and/or Development.

Comments concerning the Applications are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

In addition, the CDFI Fund requests comments in response to the following questions:

Financial Assistance (FA) Application

1. Is the information that is proposed to be collected by the Application necessary and appropriate for the CDFI Fund to consider for the purpose of making award decisions?

2. Are certain questions or tables redundant or unnecessary?

3. Should any questions or tables be added to ensure collection of relevant information?

4. In general, does the data and information requested in the Application allow an Applicant to demonstrate its ability explain its business plan and ability to meet the FA Ojectives described in the Application?

5. Is the data and information requested in the Application to assess the business plan adequate to assess the different CDFI activities?

6. What, if any, additional data and information should be collected to assess business plan activities?

7. Are any of the questions particularly burdensome or difficult to answer? If so, please be specific as to type of CDFI (e.g., regulated, non-profit, sector) that find it difficult.

8. Are the character limitations for narrative responses appropriate? Should certain questions allow additional or fewer characters? If so, please specify.

9. Are there questions that lack clarity as to intent or purpose? If so, which questions, and what needs to be clarified in order for Applicants to provide a comprehensive response?

10. Tables in Questions 6 a-d ask for certain data and information that will be used to assess an Applicant's projected Financial Assistance Objectives. Is the data collected in these tables adequate to assess an Applicant's projected Financial Assistance Objectives?

11. Is there other information not requested in the Application that would demonstrate an Applicant's projected business plan activities?

12. The proposed application includes new questions from the Treasury Office of Civil Rights and Diversity (OCRD) concerning data collection for civil rights compliance and enforcement purposes under Title VI of the Civil Rights Act, and similar statutes applicable to Federal financial assistance.

a. Will Applicants be able to answer the questions?

b. Are there any questions that regulated insitutions cannot answer?

c. What is the anticipated level of burden to answer the proposed questions?

13. Are there requests for data in the Application that Applicants do not have readily available or that are burdensome to obtain and/or calculate?

14. In previous application rounds, the CDFI Fund mandated that FA Applicants must be Certified as CDFIs prior to the announcement of award decisions in order to receive an FA award. Beginning with the FY 2020 application round, the CDFI Fund plans to change this requirement so that FA Applicants must be Certified CDFIs as of the date the NOFA is published in the Federal Register. In your opinion, would this requirement limit the number of organizations that apply for the FA award or cause undue hardship on Applicants? If so, in what way?

15. The CDFI Fund is seeking input in order to update the current definition of Financial Services to better reflect the range of Financial Services offered by the industry. Financial Services is currently defined as FA expended for providing checking, savings accounts, check cashing, money orders, certified checks, automated teller machines, deposit taking, safe deposit box services, and other similar services. The CDFI Fund is also seeking input on how different Financial Services are measured in the industry.

a. What, if any, updates should the CDFI Fund make to the definition of Financial Services?

b. How should the CDFI Fund measure each type of Financial Service based on industry practice?

The following are examples of the type of responses the CDFI Fund is hoping to receive from the industry. These examples are provided for illustrative purposes and the responses you provide may vary. Example 1: For the type of Financial Service of providing checking accounts the unit of measurement could be the number of clients opening a new checking account. Example 2: For the type of Financial Service of automatic teller machines the unit of measurement could be the number of ATMs opened.

16. The current application has the following predetermined Eligible Lines of Business for the FA Award: Affordable Housing, Commercial Financial Services, Commercial Real Estate, Community Facilities, Consumer Financial Products, Consumer Financial Services, Intermediary Lending, Microenterprise, and Small Business. Are there other commonly provided Lines of Business not captured in this list?

Technical Assistance (TA) Application

17. Based on its applicant type, do the questions in the TA Application allow the Applicant to clearly address the evaluation criteria for:

(a) An Emerging and Certifiable CDFI and its ability to achieve certification;

(b) A Sponsoring Entity and its ability to create and certify a new CDFI; and

(c) A Certified CDFI and its ability to build its capacity to expand operations, offer new products or services, or increase the volume of current business?

18. How do CDFIs improve their capacity by spending TA award funds on Supplies, and Equipment? What questions could the Application contain that would provide this information about these capacity improvements?

19. Are there questions in the TA Application that are unclear and/or repetitive?

20. What additional guidance can the CDFI Fund provide in order to assist applicants with completing a TA application?

21. Can the CDFI Fund adjust its TA application in order to better collect information and evaluate an applicant's ability to serve the unique needs of Native Communities? If yes, what questions should the CDFI Fund include in the TA application and what evaluation factors should the CDFI Fund consider when evaluating an applicant's ability to serve the unique needs of Native Communities?

22. Should the CDFI Fund develop NACA Program TA application questions that are specific to organizations applying as Sponsoring Entities? If yes, what questions should the application include in order to assess an organization's ability to successfully create an emerging CDFI within one year and ensure that the emerging CDFI achieves CDFI Certification within four years?

23. The primary purpose of making a Technical Assistance Award to a certified CDFI is to increase its capacity to serve its Target Market(s). How can the CDFI and NACA Programs update their Technical Assistance applications in order to make a more accurate determination as to whether or not a TA award will increase a certified CDFI's capacity to serve its Target Market?

24. Does the current TA application, related guidance materials, and NOFAs provide sufficient clarity to help potential applicants clearly understand what are, and are not, eligible uses of TA funds?

Healthy Food Financing Initiative-Financial Assistance (HFFI-FA) Application; OMB Number 1559-0040 (OMB Number To Be Retired)

25. Is the information being collected sufficient to determine whether an Applicant is financing eligible Healthy Foods transactions? If no, what other information should the CDFI Fund collect in order to determine whether an Applicant is financing eligible Healthy Foods transactions?

Persistent Poverty Counties-Financial Assistance (PPC-FA) Application

26. Is the information collected sufficient to determine whether an Applicant is providing eligible financing in Persistent Poverty Counties? What other information should the CDFI Fund consider in order to determine whether an Applicant is providing financing in Persistent Poverty Counties?

Disability Funds-Financial Assistance (DF-FA) Application OMB Number: 1559-0048 (OMB Number To Be Retired)

Requested Comments: None.

Authority: Pub. L. 110-289, 12 CFR 1807.

Jodie L. Harris,
Director, Community Development Financial Institutions Fund.

[FR Doc. 2019-04440 Filed 3-11-19; 8:45 am]

BILLING CODE 4810-05-P